DEPARTMENT OF TRANSPORTATION

Federal Aviation Administration

Notice of Intent to Rule on Application 00-02-C-00-GRI to, Impose and Use the Revenue From a Passenger Facility Charge (PFC) at Central Nebraska Regional Airport, Grand Island, Nebraska

AGENCY: Federal Aviation Administration, (FAA), DOT.

ACTION: Notice of Intent to Rule on Application.

SUMMARY: The FAA proposes to rule and invites public comment on the application to impose and use the revenue from a PFC at Central Nebraska Regional Airport under the provisions of the Aviation Safety and Capacity Expansion Act of 1990 (Title IX of the Omnibus Budget Reconciliation Act of 1990) (Pub. L. 101-508) and part 158 of the Federal Aviation Regulations (14 CFR part 158).

DATES: Comments must be received on or before December 13, 2000.

ADDRESSES: Comments on this application may be mailed or delivered in triplicate to the FAA at the following address: Federal Aviation Administration, Central Region, Airports Division, 901 Locust, Kansas City, MO 64106.

In addition, one copy of any comments submitted to the FAA must be mailed or delivered to Mr. William G. Stovall, Executive Director, Hall County Airport Authority, at the following address: Hall County Airport Authority, 3743 Sky Park Road, Grand Island, NE 68801.

Air carriers and foreign air carriers may submit copies of written comments previously provided to the Hall County Airport Authority under § 158.23 of part 158.

FOR FURTHER INFORMATION CONTACT: Lorna Sandridge, PFC Program Manager, FAA, Central Region, 901 Locust, Kansas City, MO 64106, (816) 329-2641. The application may be reviewed in person at this same location.

SUPPLEMENTARY INFORMATION: The FAA proposes to rule and invites public comment on the application to impose and use the revenue from a PFC at the Central Nebraska Regional Airport under the provisions of the Aviation Safety and Capacity Expansion Act of 1990 (Title IX of the Omnibus Budget Reconciliation Act of 1990) (Pub. L. 101-508) and part 158 of the Federal Aviation Regulations (14 CFR part 158).

On August 7, 2000, the FAA determined that the application to impose and use the revenue from a PFC submitted by the Hall County Airport Authority, Grand Island, Nebraska, was not substantially complete within the requirements of section 158.25 of part 158. The Hall County Airport Authority submitted supplemental information on October 6, 2000, to complete the application. The FAA will approve or disapprove the supplemental application, in whole or in part, no later than December 19, 2000.

The following is a brief overview of the application.

Level of the proposed PFC: $4.50.

Proposed charge effective date: March, 2001.

Proposed charge expiration date: November, 2007.

Total estimated PFC revenue: $578,060.

Brief description of proposed project(s): Ramp improvements; Terminal renovation and addition; Runway/taxiway cable replacement; Rehabilitate, relocate and reconstruct Runway 13/31; and Construct new taxiway.

Any person may inspect the application in person at the FAA office listed above under FOR FURTHER INFORMATION CONTACT.

In addition, any person may, upon request, inspect the application, notice and other documents germane to the application in person at the Central Nebraska Regional Airport.

Issued in Kansas City, Missouri on October 27, 2000.
George A. Hendon,
Manager, Airports Division, Central Region.

[FR Doc. 00-28994 Filed 11-9-00; 8:45 am]

BILLING CODE 4910-13-M